PENSION BENEFIT GUARANTY CORPORATION

Privacy Act of 1974; System of Records

AGENCY: Pension Benefit Guaranty Corporation.

ACTION: Notice of new system of records PBGC—16, Online Employee Directory—PBGC.

SUMMARY: The Pension Benefit Guaranty Corporation (PBGC) is proposing to establish a new system of records, PBGC—16, Online Employee Directory—PBGC, subject to the Privacy Act of 1974, as amended. The new system of records will be used by PBGC employees and employees of PBGC's contractors to identify other PBGC employees by name, organizational component or title, supervisor, or area of expertise, and to access contact information for PBGC employees.

DATES: Comments on the new system of records and proposed routine uses must be received on or before September 29, 2008. The new system of records will become effective on October 8, 2008 without further notice, unless comments result in a contrary determination and a notice is published to that effect.

ADDRESSES: Comments may be submitted by any of the following methods:

1. Federal eRulemaking Portal: http://www.regulations.gov. Follow the Web site instructions for submitting comments.

2. E-mail: reg.comments@pbgc.gov.

3. Fax: 202-326-4224.

4. Mail or Hand Delivery: Legislative and Regulatory Department, Pension Benefit Guaranty Corporation, 1200 K Street, NW., Washington, DC 20005-4026. Comments received, including personal information provided, will be posted to http://www.pbgc.gov. Copies of comments may also be obtained by writing to Disclosure Division, Office of General Counsel, Pension Benefit Guaranty Corporation, 1200 K Street, NW., Washington, DC 20005-4026, or calling 202-326-4040 during normal business hours. (TTY and TDD users may call the Federal relay service toll-free at 1-800-877-8339 and ask to be connected to 202-326-4040.)

FOR FURTHER INFORMATION CONTACT: Sarah Humphrey, Attorney, Office of the General Counsel, Pension Benefit Guaranty Corporation, 1200 K Street, NW., Washington, DC 20005, 202-326-4400 (extension 3600); or Bruce Campbell, Attorney, Office of the General Counsel; 202-326-4400 (extension 3672). (For TTY/TDD users, call the federal relay service toll-free at (800) 877-8339 and ask to be connected to 202-326-4400 (extension 3600) or 202-326-4400 (extension 3672).).

SUPPLEMENTARY INFORMATION: To improve communications and collaboration among its staff, PBGC is proposing to establish a new system of records subject to the Privacy Act (5 U.S.C. 552a) that will make it easier for PBGC employees and employees of PBGC's contractors to identify other PBGC employees by name, organizational component or title, supervisor, or area of expertise, and to access contact information. The Online Employee Directory (“OED”) will be accessible to PBGC employees and employees of PBGC's contractors via PBGC's intranet and allow users to search and retrieve information about PBGC employees by first, middle, or last name, organizational component and title, supervisor's name, or area of expertise. The OED will include contact information, i.e., each employee's PBGC mailing address, room or workstation number, telephone number and extension, and electronic mail address. The OED will also include the photograph of each employee from the PBGC-issued photo identification badge that PBGC employees must wear in PBGC facilities. An employee may opt out of having their photograph displayed in the OED.

PBGC general routine uses G1 through G8 will apply to this system of records. These routine uses were published as the PBGC's Prefatory Statement of General Routine Uses at 60 FR 57462, 57563 (Nov. 15, 1995). PBGC has determined that these routine uses are “appropriate and necessary for the efficient conduct of government and in the best interest of both the individual and the public.” See Privacy Act Implementation, Guidelines and Responsibilities, Office of Management and Budget, 40 FR 28948, 28953 (1975).

Issued in Washington, DC, this 25th day of August 2008.
Charles E. F. Millard,
Director, Pension Benefit Guaranty Corporation.

PBGC-16

System name:

PBGC-16, Online Employee Directory—PBGC.

Security classification:

Not applicable.

System Location:

Pension Benefit Guaranty Corporation, 1200 K Street NW., Washington, DC 20005-4026.

Categories of individuals covered by the system:

PBGC employees.

Categories of records in the system:

Employee's name, photograph, organizational component and title, supervisor's name, area of expertise, PBGC mailing address, room or workstation number, telephone number and extension, and electronic mail address.

Authority for maintenance of the system:

29 U.S.C. 1302.

Purpose(s):

This system of records is used by PBGC employees and employees of PBGC's contractors to identify other PBGC employees by name, organizational component or title, supervisor, or area of expertise, and to access contact information for PBGC employees.

Routine uses of records maintained in the system, including categories of users and the purposes of such uses:

PBGC General Routine Uses G1 through G8 apply to this system of records (See Prefatory Statement of General Routine Uses, 60 FR 57462, 57563 (1995)).

Disclosure to consumer reporting agencies:

Not applicable.

Policies and practices for storing, retrieving, accessing, retaining, and disposing of records in the system:

Storage:

Records are maintained in electronic format in database that is available to authorized PBGC employees and employees of PBGC's contractors who have been granted access to PBGC's intranet.

Retrievability:

Records are retrieved by name, organizational component or title, supervisor, or area of expertise.

Safeguards:

The PBGC has adopted appropriate administrative, technical, and physical controls to protect the security, integrity, and availability of information maintained in electronic format, and to assure that records are not disclosed to or accessed by anyone who does not have a need-to-know to perform official duties.

Retention and disposal:

Records are maintained until the subject leaves PBGC employment.

System manager(s) and address:

Director, Communications and Public Affairs Department, Pension Benefit Guaranty Corporation, 1200 K Street, NW., Washington, DC 20005-4026.

Notification procedure:

Procedures are detailed in PBGC regulations: 29 CFR part 4902.

Record access procedures:

Same as notification procedures.

Contesting record procedures:

Same as notification procedure.

Record source categories:

Subject individual and PBGC personnel records.

Exemptions claimed for the system:

None.

[FR Doc. E8-20178 Filed 8-28-08; 8:45 am]

BILLING CODE 7709-01-P